DEPARTMENT OF TRANSPORTATION

Federal Highway Administration

Notice To Rescind a Notice of Intent To Prepare an Environmental Impact Statement (EIS); Bannock County, ID

AGENCY: Federal Highway Administration (FHWA), DOT.

ACTION: Rescind Notice of Intent to prepare an EIS.

SUMMARY: The FHWA is issuing this notice to advise the public that the Notice of Intent (NOI) published on May 3, 2006 to prepare an EIS for a proposed highway project in Bannock County, Idaho is being rescinded.

FOR FURTHER INFORMATION CONTACT: Mr. Edwin B. Johnson, Field Operations Engineer, Federal Highway Administration, 3050 Lakeharbor Lane, Suite 126, Boise, Idaho 83703, Telephone: (208) 334-9180, ext. 116, or Mr. Dennis Clark, Environmental Section Manager, Headquarters, Idaho Transportation Department, P.O. Box 7129, Boise, Idaho 83703-1129, Telephone: (208) 334-8203.

SUPPLEMENTARY INFORMATION:

Background

The FHWA, in cooperation with the Idaho Transportation Department (ITD), is rescinding the NOI to prepare an EIS for a project that has been proposed to provide a new access point along Interstate 15 (I-15) in Bannock County, Idaho. The NOI is being rescinded because ITD and FHWA have determined that the project will have no significant impacts and an EIS is not necessary or appropriate for the environmental evaluation.

The I-15 Environmental Study began in June 2004. Initial projects indicated that an Environmental Assessment (EA) would be an appropriate level of documentation for project impacts. Additional environmental scans and screening did not reveal significant impacts to support a change in the level of documentation. Alternatives were developed and advanced into further screening where actual footprints were evaluated for impacts within the project limits. One of the alternatives showed greater impacts than others being evaluated during the continued screening process. In response to that finding it was thought that an EIS would be the best method to discuss impacts from this alternative. Consequently, an NOI was published on May 3, 2006.

A public meeting was held on June 22, 2006 to solicit comments from the public on alternatives being considered. An additional screening analysis was performed in conjunction with the public meeting. Based upon the results of that screening analysis and public comments received on this analysis, some of the alternatives were dropped from further analysis due to potential significant impacts to the built and natural environment as well as to traffic operations. At this point in the project development process, no significant human or natural environmental impacts are evident in the I-15 Environmental Study project that would require an EIS. If, at any point in the EA process, it is determined that the action is likely to have a significant impact on the environment, the preparation of an EIS will be required.

To ensure that the full range of issues related to this proposed action and all significant issues are identified, comments and suggestions are invited from all interested parties regarding this action to rescind the NOI published May 3, 2006 for the highway project in Bannock County, Idaho. Comments or questions concerning this proposed action should be directed to the FHWA or ITD at the addresses provided above.

[Catalog of Federal Domestic Assistance Program Number 20.205, Highway Research, Planning, and Construction. The regulations implementing Executive Order 12372 regarding intergovernmental consultation on Federal programs and activities apply to the program.]

Issued on December 12, 2006.
Stephen A. Moreno,
Division Administrator, Boise, Idaho.

[FR Doc. 06-9779 Filed 12-21-06; 8:45 am]

BILLING CODE 4910-22-M